FEDERAL COMMUNICATIONS COMMISSION

[FR ID 82662]

Open Commission Meeting Thursday, April 21, 2022

April 14, 2022.

The Federal Communications Commission will hold an Open Meeting on the subjects listed below on Thursday, April 21, 2022, which is scheduled to commence at 10:30 a.m. Due to the current COVID-19 pandemic and related agency telework and headquarters access policies, this meeting will be in an electronic format and will be open to the public only on the internet via live feed from the FCC's web page at www.fcc.gov/live and on the FCC's YouTube channel.

Item No. | Bureau | Subject
1 | OFFICE OF ENGINEERING & TECHNOLOGY | Title: Improving Receiver Performance (ET Docket No. 22-137). Summary: The Commission will consider a Notice of Inquiry to promote more efficient use of spectrum through improved receiver interference immunity performance, thereby facilitating the introduction of new and innovative services.
2 | PUBLIC SAFETY & HOMELAND SECURITY | Title: Wireless Emergency Alerts (PS Docket No. 15-91); Amendment of Part 11 of the Commission's Rules Regarding the Emergency Alert System (PS Docket No. 15-94). Summary: The Commission will consider a Further Notice of Proposed Rulemaking seeking comment on proposals to strengthen the effectiveness of Wireless Emergency Alerts, including through public reporting on the reliability, speed, and accuracy of these alerts.
3 | MEDIA | Title: Restricted Adjudicatory Matter. Summary: The Commission will consider a restricted adjudicatory matter.
4 | MEDIA | Title: Restricted Adjudicatory Matter. Summary: The Commission will consider a restricted adjudicatory matter.
5 | ENFORCEMENT | Title: Enforcement Bureau Action. Summary: The Commission will consider an enforcement action.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530. Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2022-08549 Filed 4-21-22; 8:45 am]

BILLING CODE 6712-01-P